DEPARTMENT OF TRANSPORTATION

Research and Special Programs Administration

[Docket No. RSPA-04-17401; Notice 1]

Pipeline Safety: Development of Class Location Change Waiver Guidelines

AGENCY: Office of Pipeline Safety, Research and Special Programs Administration, DOT.

ACTION: Notice; information on class location waiver guideline development.

SUMMARY: On December 15, 2003, the Research and Special Programs Administration's (RSPA) Office of Pipeline Safety (OPS) issued a final rule on gas pipeline integrity management that established a policy to grant waivers of the pipe replacement or pressure reduction requirements after a change in Class Location if an operator can demonstrate an alternative integrity management program for the waiver segment. A pipeline Class Location increase results from an increase in population adjacent to a pipeline segment. RSPA/OPS held a meeting on April 14-15, 2004, in Washington, DC, to discuss the criteria for gas pipeline Class Location change waivers. Waivers will only be granted when pipe condition and active integrity management provides a level of safety greater than or equal to a pipe replacement or pressure reduction.

FOR FURTHER INFORMATION CONTACT: Joy Kadnar, (tel: 202-366-0568); e-mail joy.kadnar@tsi.jccbi.gov regarding the subject matter of this notice. Additional information about RSPA/OPS” Class Location waiver guidelines development can be found at http://primis.rspa.dot.gov/gasimp. You can read comments and other material in the docket on the Internet at: http://dms.dot.gov.

ADDRESSES: You may submit comments [identified by DOT DMS Docket Number RSPA-04-17401] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov. including any personal information provided. Please see the Privacy Act heading under Regulatory Notices.

Docket: For access to the docket to read background documents or comments received, go to http://dms.dot.gov at any time or to Room PL-40 on the plaza level of the Nassif Building, 400 Seventh Street, SW., Washington, DC, between 9 a.m. and 5 p.m., Monday through Friday, except Federal Holidays.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

SUPPLEMENTARY INFORMATION: The Pipeline Safety Improvement Act of 2002 (codified at 49 U.S.C. 60101) required RSPA/OPS to issue regulations to require pipeline operators to conduct risk analyses and to adopt and implement integrity management programs. On December 15, 2003, RSPA/OPS issued a final rule on gas transmission pipeline integrity management in high consequence areas (68 FR 69778). The cost-benefit analysis included in this final rule noted that another benefit to be realized from implementing integrity management is reduced cost to the pipeline industry for ensuring safety in populated areas along pipelines. The improved knowledge of pipeline integrity that will result from implementing this rule will provide a technical basis for providing relief to operators from current requirements to replace pipe or to reduce operating stresses in pipelines when population near them increases, i.e. when the Class Location increases from Class 2 to Class 3.

The pipeline safety regulations require that pipelines routed through areas with higher local population density operate at lower pressures. This is intended to provide an extra safety margin in those areas. Operators typically replace pipeline when population increases, because reducing pressure to reduce stresses reduces the ability of the pipeline to carry gas. Areas with population growth typically require more, not less, gas.

However, replacing pipelines can be very costly. Providing safety in another manner, such as by implementing the integrity management rule principles, could allow RSPA/OPS to waive some pipe replacement or pressure reductions for pipelines in areas of population growth that are changing from Class 2 to Class 3. RSPA/OPS estimated that such waivers could result in a reduction in costs to industry of $1 billion over the next 20 years, with no adverse effects on public safety.

Although guidelines for granting such waivers in high consequence and other areas have not yet been completed, RSPA/OPS has granted a limited number of waivers of the Class Location change rules in our approval of certain risk management demonstration programs. There also have been recent waiver requests to allow pipe to remain at existing hoop stresses although the maximum allowable operating pressure (MAOP) is no longer commensurate with the requirement for the new Class Location.

The Interstate Natural Gas Association of America (INGAA) submitted a proposal to RSPA/OPS in January for development of guidelines for the granting of Class Location waivers based on integrity management principles. INGAA also discussed a proposal for a pilot program that would designate ten “waiver sites” that would be considered by RSPA/OPS after the establishment of criteria for a waiver in the guidelines.

The INGAA proposal was discussed in February, 2004, at the Technical Pipeline Safety Standards Committee (TPSSC), the statutorily mandated gas pipeline advisory committee. The proposal was also discussed with state and federal regulators at the Interstate Summit meeting on February 26, 2004.

Most recently, RSPA/OPS held a meeting on April 14-15, 2004, in Washington, DC to discuss the criteria for consideration of gas pipeline Class Location change waiver requests. Because a pipeline Class Location increase results from an increase in population adjacent to a pipeline segment, waivers will only be granted when pipe condition and active integrity management provides a level of safety greater than or equal to a pipe replacement or pressure reduction. The April meetings focused on RSPA/OPS” criteria for pipeline characteristics and integrity management processes to identify projects that would have a high probability of waiver approval. Representatives from RSPA/OPS headquarters and regions, industry, and State pipeline safety agencies with proposed waiver sites in their States attended the meeting.

Information on the INGAA proposal, development of Class Location waiver guidance, and the pilot program is available in the docket referenced above.

Authority: 49 U.S.C. 60102, 60109, 60117.

Issued in Washington, DC, on April 16, 2004.
Richard D. Huriaux,
Regulations Manager, Office of Pipeline Safety.

[FR Doc. 04-9202 Filed 4-22-04; 8:45 am]

BILLING CODE 4910-60-P